DEPARTMENT OF ENERGY

Federal Energy Regulatory Commission

[Docket No. AD04-6-000]

Notice of Availability of Consequence Assessment Methods for Incidents Involving Releases From Liquefied Natural Gas Carriers

May 14, 2004.

The Federal Energy Regulatory Commission (FERC or Commission) has contracted ABSG Consulting Inc. (ABSG) to research and review methodologies for modeling liquefied natural gas (LNG) spills on water. The final report, entitled Consequence Assessment Methods for Incidents Involving Releases from Liquefied Natural Gas Carriers, is available in PDF format from the FERC Web site (http://www.ferc.gov/industries/gas/indus-act.asp). Copies of the study have also been mailed to interested parties and government agencies.

The report recommends methods for estimating: Spill rates; pool spread and vapor generation for unconfined LNG spills on water; thermal radiation from pool fires on water; and dispersion of flammable vapors. An overview of data relating to the effects of thermal radiation on people and structures is also included. Example calculations are included for spills from 1- and 5-meter-diameter hull breaches to examine the model sensitivities and to illustrate the various methods. The methods recommended by ABSG will be used by FERC staff to calculate site-specific flammable vapor and thermal radiation hazards in the National Environmental Policy Act review for each import facility application before the Commission.

Any person wishing to comment on the study may do so. Please carefully follow these instructions to ensure that your comments are received and properly recorded:

• Send an original and two copies of your comments to: Magalie R. Salas, Secretary, Federal Energy Regulatory Commission, 888 First St., NE., Room 1A, Washington, DC 20426;

• Label one copy of the comments for the attention of the LNG Engineering Branch, PJ-11.4.

• Reference Docket No. AD04-6-000 and

• Mail your comments so that they will be received in Washington, DC on or before May 28, 2004.

Please note that we are continuing to experience delays in mail deliveries from the U.S. Postal Service. The Commission strongly encourages electronic filing of any comments on this report. See the instructions on the Commission's Web site at http://www.ferc.gov under the “e-Filing” link and the link to the User's Guide. Before you can file comments you will need to create a free account which can be created by clicking on “Sign-up.”

Magalie R. Salas,
Secretary.

[FR Doc. E4-1201 Filed 5-21-04; 8:45 am]

BILLING CODE 6717-01-P